DEPARTMENT OF HEALTH AND HUMAN SERVICES

Centers for Medicare & Medicaid Services

[Document Identifier CMS-R-70, CMS-R-72, and CMS-10783]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by January 5, 2022.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, you may make your request using one of following:

1. Access CMS' website address at: https://www.cms.gov/Regulations-and-Guidance/Legislation/PaperworkReductionActof1995/PRA-Listing.html.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Extension of a currently approved collection; Title of Information Collection: Information Collection Requirements in HSQ-110, Acquisition, Protection and Disclosure of Peer review Organization Information and Supporting Regulations; Use: The Peer Review Improvement Act of 1982 authorizes quality improvement organizations (QIOs), formally known as peer review organizations (PROs), to acquire information necessary to fulfill their duties and functions and places limits on disclosure of the information. The QIOs are required to provide notices to the affected parties when disclosing information about them. These requirements serve to protect the rights of the affected parties. The information provided in these notices is used by the patients, practitioners and providers to: Obtain access to the data maintained and collected on them by the QIOs; add additional data or make changes to existing QIO data; and reflect in the QIO's record the reasons for the QIO's disagreeing with an individual's or provider's request for amendment. Form Number: CMS-R-70 (OMB control number: 0938-0426); Frequency: Reporting—On occasion; Affected Public: Business or other for-profits; Number of Respondents: 53,850; Total Annual Responses: 436,984; Total Annual Hours: 404,208. (For policy questions regarding this collection contact Kimberly Harris at 617-565-1285.)

2. Type of Information Collection Request: Extension of a currently approved collection; Title of Information Collection: Information Collection Requirements in 42 CFR 478.18, 478.34, 478.36, 478.42, QIO Reconsiderations and Appeals; Use: In the event that a beneficiary, provider, physician, or other practitioner does not agree with the initial determination of a Quality Improvement Organization (QIO) or a QIO subcontractor, it is within that party's rights to request reconsideration. The information collection requirements 42 CFR 478.18, 478.34, 478.36, and 478.42, contain procedures for QIOs to use in reconsideration of initial determinations. The information requirements contained in these regulations are on QIOs to provide information to parties requesting the reconsideration. These parties will use the information as guidelines for appeal rights in instances where issues are actively being disputed. Form Number: CMS-R-72 (OMB control number: 0938-0443); Frequency: Reporting—On occasion; Affected Public: Individuals or Households and Business or other for-profit institutions; Number of Respondents: 20,129; Total Annual Responses: 60,489; Total Annual Hours: 22,014. (For policy questions regarding this collection contact Kimberly Harris at 617-565-1285).

3. Type of Information Collection Request: New collection (Request for a new OMB control number); Title of Information Collection: Generic Beneficiary and Family Centered-Care Quality Improvement Organization (BFCC-QIO) Data Collection Research; Use: The purpose of this submission is to request approval for generic clearance that covers a program of data collection activities to obtain feedback from a broad audience that may include, but will not be limited to Medicare beneficiaries, their family, health care providers and other key stakeholders who have used or may use and have been impacted by the BFCC-QIO services and its offerings. This data collection effort is part of a strategic plan to obtain direct feedback from Medicare beneficiaries, their family, health care providers and other key stakeholders on QIO process improvement efforts and their satisfaction with the services provided by these BFCC-QIOs. Feedback obtained will be used to improve the BFCC QIO program. With the approval of this clearance, the Division of Beneficiary Reviews and Care Management (DBRCM) will be able to maintain a proactive process for rapid data collection to inform the work of the BFCC-QIO program around new and existing initiatives, as well as providing rapid feedback on service delivery and satisfaction for continuous improvement of the BFCC-QIO program.

The BFCC-QIO program is statutorily mandated to improve the quality of healthcare services Medicare beneficiaries receive. BFCC-QIOs provide the foundational level of quality in the health care system by investigating quality of care complaints made by Medicare beneficiaries and their families; by providing an avenue for appeals if they feel they are being released from a facility too soon; by requesting for immediate advocacy services when they have concerns about their care that need a quick resolution; and by providing care management services to help people with Medicare navigate the healthcare system and coordinate their care. The BFCC-QIOs provide these essential services for beneficiaries and families of the national Medicare program.

This generic clearance will cover a program of qualitative (in-depth interviews and focus group interviews), and quantitative methods (surveys) to obtain feedback from a wide range of audience that may include, but will not be limited to Medicare beneficiaries, their family, healthcare providers and any other key audiences that would support CMS in informing and improving QIO services, and any new and existing initiatives. Form Number: CMS-10783 (OMB control number: 0938-NEW); Frequency: Occasionally; Affected Public: Individuals and Households; Number of Respondents: 16,800; Total Annual Responses: 191,200; Total Annual Hours: 59,400. For policy questions regarding this collection, contact Yewande Oladeinde at 410-786-2157.)

Dated: December 1, 2021.
William N. Parham, III,
Director, Paperwork Reduction Staff, Office of Strategic Operations and Regulatory Affairs.

[FR Doc. 2021-26414 Filed 12-3-21; 8:45 am]

BILLING CODE 4120-01-P